DEPARTMENT OF ENERGY

Federal Energy Regulatory Commission

[Docket No. EL18-168-000]

Notice of Complaint: North Carolina Electric Membership Corporation v. Duke Energy Progress, LLC

Take notice that on May 31, 2018, pursuant to sections 206, 306, and 309 of the Federal Power Act, 16 U.S.C. 824e, 825e, and 825h and Rule 206 of the Federal Energy Regulatory Commission's (Commission) Rules of Practice and Procedure, 18 CFR 385.206, North Carolina Electric Membership Corporation (Complainant) filed a formal challenge and complaint against Duke Energy Progress, LLC (Respondent) alleging that Respondent is violating its formula rate, its Joint Open Access Transmission Tariff and Commission orders, regulations and generally applicable ratemaking policies by failing to reflect in its Annual Updates of wholesale transmission charges, the reduction in the federal corporate income tax rate that went into effect January 1, 2018 and the adjustments to the Accumulated Deferred Income Tax balances, as more fully explained in the complaint.

Complainant certifies that copies of the complaint were served on contacts for the Respondent listed on the Commission's list of Corporate Officials and the North Carolina Utilities Commission and the South Carolina Public Service Commission.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on June 20, 2018.

Dated: June 1, 2018.
Nathaniel J. Davis, Sr.,
Deputy Secretary.

[FR Doc. 2018-12601 Filed 6-11-18; 8:45 am]

BILLING CODE 6717-01-P